DEPARTMENT OF ENERGY

Federal Energy Regulatory Commission

[Docket Nos. IC24-23-000]

Commission Information Collection Activities (FERC-725A); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-725A (Mandatory Reliability Standards for the Bulk-Power System). There are no changes to the information collection.

DATES: Comments on the collection of information are due October 15, 2024.

ADDRESSES: You may submit copies of your comments (identified by Docket No. IC24-23-000) by one of the following methods:

Electronic filing through https://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

Instructions: All submissions must be formatted and filed in accordance with submission guidelines at: https://www.ferc.gov. For user assistance, contact FERC Online Support by email at ferconlinesupport@ferc.gov, or by phone at (866) 208-3676 (toll-free).

Docket: Users interested in receiving automatic notification of activity in this docket or in viewing/downloading comments and issuances in this docket may do so at https://www.ferc.gov.

FOR FURTHER INFORMATION CONTACT: Doug Reimel may be reached by email at DataClearance@FERC.gov, telephone at (202) 502-6461.

SUPPLEMENTARY INFORMATION:

Title: FERC-725A (Mandatory Reliability Standards for the Bulk-Power System).

OMB Control No.: 1902-0244.

Type of Request: Three-year extension of the FERC-725A information collection requirements with no changes to the current reporting requirements.

Abstract: On August 8, 2005, the Electricity Modernization Act of 2005, which is Title XII, Subtitle A, of the Energy Policy Act of 2005 (EPAct 2005), was enacted into law.¹ EPAct 2005 added a new section 215 to the FPA, which requires a Commission-certified electric reliability organization (ERO) (FERC-725) to develop mandatory and enforceable Reliability Standards, which are subject to Commission review and approval. Once approved, the Reliability Standards may be enforced by the ERO, subject to Commission oversight or the Commission can independently enforce Reliability Standards (FERC-725A).²

¹ Energy Policy Act of 2005, Public Law No 109-58, Title XII, Subtitle A, 119 Stat. 594, 941 (2005), to be codified at 16 U.S.C. 824o.

² 16 U.S.C. 824o(e)(3).

On February 3, 2006, the Commission issued Order No. 672, implementing section 215 of the FPA.³ Pursuant to Order No. 672, the Commission certified one organization, NERC, as the ERO.⁴ The ERO is required to develop Reliability Standards, which are subject to Commission review and approval. The Reliability Standards will apply to users, owners and operators of the Bulk-Power System, as set forth in each Reliability Standard.

³ Rules Concerning Certification of the Electric Reliability Organization; Procedures for the Establishment, Approval and Enforcement of Electric Reliability Standards, Order No. 672, 71 FR 8662 (February 17, 2006), FERC Stats. & Regs. ¶ 31,204 (2006), order on reh'g, Order No. 672-A, 71 FR 19814 (April 18, 2006), FERC Stats. & Regs. ¶ 31,212 (2006).

⁴ North American Electric Reliability Corp., 116 FERC ¶ 61,062 (ERO Certification Order), order on reh'g & compliance, 117 FERC ¶ 61,126 (ERO Rehearing Order) (2006), order on compliance, 118 FERC ¶ 61,030 (2007) (January 2007 Compliance Order).

On March 16, 2007, the Commission issued Order No. 693, a Final Rule adding part 40, a new part, to the Commission's regulations. The Final Rule states that this part applies to all users, owners and operators of the Bulk-Power System within the United States (other than Alaska or Hawaii). It also requires that each Reliability Standard identify the subset of users, owners and operators to which that particular Reliability Standard applies. The new regulations also require that each Reliability Standard that is approved by the Commission will be maintained on the ERO's internet website for public inspection.

In order for the Commission to perform its oversight function with regard to Reliability Standards that are proposed by the ERO, it is essential that the Commission receives timely information regarding all or potential violations of Reliability Standards. While section 215 of the FPA contemplates the filing of the record of an ERO or Regional Entity enforcement action, FERC needs information regarding violations and potential violations at or near the time of occurrence. Therefore, it will work with the ERO and regional reliability organizations to be able to use electronic filing of information so the Commission receives timely information. The new regulations also require that each Reliability Standard that is approved by the Commission will be maintained on the ERO's internet website for public inspection.

In accordance with section 39.5 of the Commission's regulations, the ERO must file each Reliability Standard or a modification to a Reliability Standard with the Commission. The filing is to include a concise statement of the basis and purpose of the proposed Reliability Standard, either a summary of the Reliability development proceedings conducted by the ERO or a summary of the Reliability Standard development proceedings conducted by a Regional Entity together with a summary of the Reliability Standard review proceedings of the ERO and a demonstration that the proposed Reliability Standard is “just, reasonable, not unduly discriminatory or preferential, and in the public interest.

The existing burden inventory for the entire FERC-725A collection is estimated at 1,407,238 burden hours (Table 1). FERC-725A contains the information collection requirements for nearly all of the US wide Reliability Standards. The collection started in 2007 when FERC approved 83 Reliability Standards with an estimated 1,252,680 burden hours. Since that time, NERC has revised many of the original standards (as well as proposed new standards) resulting in many incremental additions to the total burden hours. Additionally, over time FAC-003, FAC-008, PER-003; INT-006; INT-009; TOP-001, TOP-002, TOP-003, TOP-010 revisions were captured in 725A collection. In August 2024, the associated manhours and cost for PER-003-2 are being relocated from 725A into 725Y (Table 2). This change will not result in change in the number of respondents in 725A as the same group of responsible entities have other obligation under 725A but the associated cost per entity will decrease slightly overall (Table 3).

Estimate of Annual Burden: ⁵ The Commission estimates the burden and cost for this information collection as follows.

⁵ Burden is defined as the total time, effort, or financial resources expended by persons to generate, maintain, retain, or disclose or provide information to or for a Federal agency. For further explanation of what is included in the information collection burden, refer to 5 CFR part 1320.

IC24-23-000 Renewal of 725A

The following table represents the current burden associated with all Mandatory Reliability Standards that fall under FERC-725A.

⁶ This is a list of NERC registered entities who under 725A need to follow the NERC Standards. BA = Balancing Authority (98); DP = Distribution Provider (371); GP = Generator Owner (1,210); Generator Operator (1028); PA/PC Planning Authority/Planning Coordinator (62); RC = Reliability Coordinator (12); RP = Resource Planner (159); RSG = Reserve Sharing Group (8); FRSG = Frequency Response Sharing Group (1); TO = Transmission Owner (324); TOP = Transmission Operator (165); TP = Transmission Provided (203); TSP = Transmission Service Provider (70); for a sum total of (3,711). The same entity may have multiple registration obligation to follow under 725A, so an individual entity's obligation increases based on registration functions. These values were derived from the NERC Compliance data of April 16, 2024, using only unique United States registered entities.

⁷ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

Original 725A IC24-23-000
| Number and type of respondents ⁶ | Annual number of responses per respondent | Total number of responses | Average burden & cost per response ⁷ | Total annual burden hours & total annual cost ($) | Cost per respondent ($)
| (1) | (2) | (1) * (2) = (3) | (4) | (3) * (4) = (5) | (5) ÷ (1)
Annual Review of 725A | 3,711 | 1 | 3,711 | 379.21 hrs., $26,798.77 | 1,407,238 hrs., $99,449,509.46 | $26,798.77
Total |  |  |  |  | 1,407,238 hrs. $99,449,509.46 |

Original 725 A Moving to FERC-725Y in Docket No. IC24-16-000 Reliability Standard PER-003-2
| Number and type of respondents ⁸ | Annual number of responses per respondent | Total number of responses | Average burden & cost per response ⁹ | Total annual burden hours & total annual cost ($) | Cost per respondent ($)
| (1) | (2) | (1) * (2) = (3) | (4) | (3) * (4) = (5) | (5) ÷ (1)
Annual Review of Credentials | 12 (RC) | 1 | 12 | 60 hrs., $4,758.60 | 720 hrs., $57,103.20 | 4,758.60
| 98 (BA) | 1 | 98 | 60 hrs., $4,758.60 | 5,880 hrs., $466,342.80 | $4,758.60
| 165 (TOP) | 1 | 165 | 60 hrs., $4,758.60 | 9,900 hrs., $785,169 | 4,758.60
Record Retention | (RC, BA, TOP) 275 | 1 | 275 | 60 hrs., $2,915.40 | 16,500 hrs., $801,735 | 2,915.40
Total |  |  |  |  | 33,000 hrs., $2,110,350 |

• Electrical Engineer (Occupation Code: 17-2071): $79.31 (to calculate the reporting requirements).

⁸ For PER-003-2: RC = Reliability Coordinator; BA = Balancing Authority; TOP = Transmission Operator; TO = Transmission Owner; GOP = Generator Operator. The NERC compliance registry table April 16, 2024, was used to perform analysis.

⁹ The estimated hourly cost (salary plus benefits) is a combination based on the Bureau of Labor Statistics (BLS), as of 2024. The estimates for cost per response are loaded hourly wage figure (includes benefits) based on two occupational categories for 2023 found on the Bureau of Labor Statistics website (http://www.bls.gov/oes/current/naics2_22.htm):

• Office and Administrative Support (Occupation Code: 43-0000): $48.59 (to calculate the recordkeeping requirements).

Third table to show different from table 1 minus table 2.

Reliability standard & requirement | Number of entities ¹⁰ | Number of annual responses per entity | Total number of responses | Average number of burden hours per response ¹¹ | Total burden hours
| (1) | (2) | (1) * (2) = (3) | (4) | (3) * (4) = (5)
FERC-725A
Mandatory Reliability Standards for Bulk Power System | 3,711 | 1 | 3,711 | 379.21 hrs., $26,798.77 | 1,407,238 hrs., $99,449,509.46.
PER-003-2 Net Changes | 550 (No change) | 1 | 550 (No Change) | −60 hrs., $4,240.20 | −33,000 hrs., $2,332,110.00 (Reduction).
Total for FERC-725A |  |  |  |  | 1,374,238 hrs., $97,117,399.46.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹⁰ This is a list of NERC registered entities who under 725A need to follow the NERC Standards. BA = Balancing Authority (98); DP = Distribution Provider (371); GP = Generator Owner (1,210); Generator Operator (1028); PA/PC Planning Authority/Planning Coordinator (62); RC = Reliability Coordinator (12); RP = Resource Planner (159); RSG = Reserve Sharing Group (8); FRSG = Frequency Response Sharing Group (1); TO = Transmission Owner (324); TOP = Transmission Operator (165); TP = Transmission Provided (203); TSP = Transmission Service Provider (70); for a sum total of (3,711). The same entity may have multiple registration obligation to follow under 725A so an individual entity's obligation increases based on registration functions. These values were derived from the NERC Compliance data of April 16, 2024 using only unique United States registered entities.

¹¹ The estimated hourly cost (salary plus benefits) is a combination based on the Bureau of Labor Statistics (BLS), as of 2024, for 75% of the average of an Electrical Engineer (17-2071) $79.31/hr., 79.31 × .75 = 59.4825 ($59.48-rounded) ($59.48/hour) and 25% of an Information and Record Clerk (43-4199) $44.74/hr., $44.74 × .25% = 11.185 ($11.19 rounded) ($11.19/hour), for a total ($59.48 + $11.19 = $70.67/hour).

Dated: August 9, 2024.
Debbie-Anne A. Reese,
Acting Secretary.

[FR Doc. 2024-18301 Filed 8-14-24; 8:45 am]

BILLING CODE 6717-01-P